DEPARTMENT OF TRANSPORTATION

Office of the Secretary

Aviation Proceedings, Agreements Filed the Week Ending May 25, 2007

The following Agreements were filed with the Department of Transportation under the Sections 412 and 414 of the Federal Aviation Act, as amended (49 U.S.C. 1383 and 2384) and procedures governing proceedings to enforce these provisions. Answers may be filed within 21 days after the filing of the application.

Docket Number: OST-2007-28314.

Date Filed: May 23, 2007.

Parties: Members of the International Air Transport Association.

Subject: Mail Vote 540 Adoption, Expected Resolution 002kk, (Memo 0666) Intended effective date: 1 July 2007.

Docket Number: OST-2007-28347.

Date Filed: May 25, 2007.

Parties: Members of the International Air Transport Association.

Subject: Mail vote 539—Resolution 010t, TC12 North Atlantic-Middle East, except between U.S.A. and Jordan, Special Passenger Amending Resolution, From Israel (IL) to North Atlantic, (Memo 0273) Intended effective date: 1 June 2007.

Renee V. Wright,
Program Manager, Docket Operations, Federal Register Liaison.

[FR Doc. 07-2891 Filed 6-8-07; 8:45 am]

BILLING CODE 4910-9X-M